FEDERAL ELECTION COMMISSION

Sunshine Act Meeting

Federal Register Citation Notice of Previous Announcement: 83 FR 35476

Previously Announced Time and Date of the Meeting: Tuesday, July 31, 2018 at 10:00 a.m.

Changes in the Meeting:

This meeting will also discuss:

Matters concerning participation in civil actions or proceedings or arbitration.

* * * * *

Contact Person for More Information: Judith Ingram, Press Officer, Telephone: (202) 694-1220.

Laura E. Sinram,
Deputy Secretary of the Commission.

[FR Doc. 2018-16325 Filed 7-26-18; 11:15 am]

BILLING CODE 6715-01-P